DEPARTMENT OF EDUCATION

Privacy Act of 1974; Computer Matching Program

AGENCY: Department of Education.

ACTION: Notice—Computer matching between the Department of Education and the Internal Revenue Service, Department of Treasury.

SUMMARY: Pursuant to the Computer Matching and Privacy Protection Act of 1988, Public Law 100-503, as amended, and the Office of Management and Budget (OMB) Final Guidance on the Conduct of Matching Programs, notice is hereby given of the computer matching program between the Department of Education (ED) (the recipient agency), and the Internal Revenue Service (IRS), Department of Treasury (the source agency).

Notice of the matching program was last published in the Federal Register on August 23, 2000 (65 FR 51301); the program became effective February 14, 2001. The 18-month Computer Matching Agreement (CMA) was recertified for an additional 12 months on August 13, 2002. The 12 month recertification will expire on August 13, 2003. This computer matching program between the IRS and ED will become effective as explained below.

In accordance with the Privacy Act of 1974 (5 U.S.C. 552a), as amended by the Computer Matching and Privacy Protection Act of 1988 (Pub. L. 100-503), the OMB Final Guidance on the Conduct of Matching Programs (54 FR 25818 (June 19, 1989)), and OMB Circular A-130, Appendix I, we provide the following information:

1. Names of Participating Agencies. The U.S. Department of Education (ED) and the Internal Revenue Service (IRS) of the U.S. Department of Treasury.

2. Purpose of the Match. This matching program, entitled Taxpayer Address Request (TAR), permits ED to have access to the mailing address of any taxpayer who has defaulted on certain loans or owes on a grant overpayment under Title IV of the Higher Education Act of 1965 (20 U.S.C. 1070a et seq.) for the purposes of locating the taxpayer to collect the loan or grant overpayment. In accordance with the provisions of the Internal Revenue Code, 26 U.S.C. 6103(m)(4)(B), this agreement further provides for redisclosure by the Secretary of Education of a taxpayer's mailing address to any lender, or State or nonprofit guarantee agency, also participating under the Higher Education Act, or any educational institution with which the Secretary of Education has an agreement under that Act.

3. Authority for Conducting the Matching Program. The information contained in the IRS data base is referred to as TAR, and is authorized under the Internal Revenue Code (IRC), 26 U.S.C. 6103(m)(2) and (4).

4. Categories of Records and Individuals Covered. The records to be used in the match and the roles of the matching participants are described as follows: ED will provide the Social Security Number (SSN) and first four letters of the last name of each individual who has defaulted under a loan program or owes a grant overpayment under Title IV of the Higher Education Act of 1965. This information will be extracted from the Student Financial Assistance Collection Files system of records (18-11-07), most recently published at 64 FR 30166-69 (June 4, 1999), as amended, 64 FR 72384, 72407 (December 27, 1999). The ED data will be matched against the IRS' system of records, CADE Individual Master File (IMF), Treasury/IRS 24.030, last published at 66 FR 63783, 63800-01 (December 10, 2001), in order to collect the most recent address of each taxpayer who matches the SSN and first four letters of the last name (or surname) provided by ED.

5. Effective Dates of the Matching Program. The matching program will become effective at the latest of the following three dates: (1) 40-days after the signing of the transmittal letter sending the computer matching program notification to Congress and the Office of Management and Budget (OMB), unless OMB disapproves the matching program within the 40-day review period; (2) 30 days after publication of this notice in the Federal Register; or (3) August 13, 2003. The matching program will continue for 18 months after the effective date and may be extended for an additional 12 months, if the conditions specified in 5 U.S.C. 552a(o)(2)(D) have been met.

6. Address for Receipt of Public Comments or Inquiries. The person to contact if there are any questions or inquiries is: Gregory Plenty, IT Specialist, Federal Student Aid, Student Credit Management, U.S. Department of Education, 830 First Street, NE., Cubicle #44C3, Washington, DC 20202, Telephone: 202-377-3253. If you use a telecommunications device for the deaf (TTD) you may call the Federal Information Relay Service (FIRS) at 1-800-877-8339.

Individuals with disabilities may obtain this document in an alternative format (e.g., Braille, large print, audiotape, or computer diskette) on request to the contact person listed in the preceding paragraph.

Electronic Access to This Document

You may review this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Authority: 5 U.S.C. 552a; Pub. L. No. 100-503.

Dated: July 7, 2003.
Theresa S. Shaw,
Chief Operating Officer, Federal Student Aid.

[FR Doc. 03-21037 Filed 8-15-03; 8:45 am]

BILLING CODE 4000-01-U